DEPARTMENT OF TRANSPORTATION

National Highway Traffic Safety Administration

[Docket No. NHTSA-2010-0176; Notice 1]

Mitsubishi Motors North America, Inc., Receipt of Petition for Decision of Inconsequential Noncompliance

Mitsubishi Motors North America, Inc. (Mitsubishi) ¹ has determined that an unknown number of replacement seat belts that it imported do not include the installation, usage and maintenance instructions required by paragraphs S4.1(k) and S4.1(l) of Federal Motor Vehicle Safety Standard (FMVSS) No. 209, Seat Belt Assemblies. Mitsubishi filed an appropriate report pursuant to 49 CFR part 573, Defect and Noncompliance Responsibility and Reports on October 25, 2010.

¹ Mitsubishi Motors North America, Inc. (Mitsubishi), is organized under the laws of the state of California. Mitsubishi manufactures and imports motor vehicles and replacement equipment.

Pursuant to 49 U.S.C. 30118(d) and 30120(h) (see implementing rule at 49 CFR part 556), Mitsubishi has petitioned for an exemption from the notification and remedy requirements of 49 U.S.C. Chapter 301 on the basis that this noncompliance is inconsequential to motor vehicle safety.

This notice of receipt of Mitsubishi's petition is published under 49 U.S.C. 30118 and 30120 and does not represent any agency decision or other exercise of judgment concerning the merits of the petition.

Mitsubishi explained that an unknown number of nonconforming seat belt assemblies were sold by Mitsubishi to its authorized dealers in the United States for resale and replacement purposes.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance.

Paragraphs S4.1(k) and S4.1(l) of FMVSS No. 209 requires:

(k) Installation instructions. A seat belt assembly, other than a seat belt assembly installed in a motor vehicle by an automobile manufacturer, shall be accompanied by an instruction sheet providing sufficient information for installing the assembly in a motor vehicle. The installation instructions shall state whether the assembly is for universal installation or for installation only in specifically stated motor vehicles, and shall include at least those items specified in SAE Recommended Practice J800c, “Motor Vehicle Seat Belt Installations,” November 1973. If the assembly is for use only in specifically stated motor vehicles, the assembly shall either be permanently and legibly marked or labeled with the following statement, or the instruction sheet shall include the following statement:

This seat belt assembly is for use only in [insert specific seating position(s), e.g., “front right”] in [insert specific vehicle make(s) and model(s)].

(l) Usage and maintenance instructions. A seat belt assembly or retractor shall be accompanied by written instructions for the proper use of the assembly, stressing particularly the importance of wearing the assembly snugly and properly located on the body, and on the maintenance [o]f the assembly and periodic inspection of all components. The instructions shall show the proper manner of threading webbing in the hardware of seat belt assemblies in which the webbing is not permanently fastened. Instructions for a nonlocking retractor shall include a caution that the webbing must be fully extended from the retractor during use of the seat belt assembly unless the retractor is attached to the free end of webbing which is not subjected to any tension during restraint of an occupant by the assembly. Instructions for Type 2a shoulder belt shall include a warning that the shoulder belt is not to be used without a lap belt.

Mitsubishi described the noncompliance as the failure to provide installation, use and maintenance instructions with the seat belt assemblies as required in FMVSS No. 209 S4.1(k) and S4.1(l).

Mitsubishi argues that this noncompliance is inconsequential to motor vehicle safety for the following reasons:

(1) The service seat belt assemblies in question are only made available to Mitsubishi authorized dealerships for their use or subsequence resale. The Mitsubishi parts ordering system used by Mitsubishi dealers clearly identifies the correct service seat belt components for any given model/model year/seat position combination and the parts are unique to each seat belt and designed to assemble properly only in their intended application.

(2) When ordering Mitsubishi replacement seat belt parts, the dealer must refer to the Mitsubishi parts catalog to identify the ordering part number with the information on the specific vehicle model type, location and model year. Each replacement seat belt assembly is packaged individually with a specific part number label to ensure shipping the correct parts. Dealers routinely confirm that the part received matches their order to validate that the correct parts were received.

(3) Installation instructions for seat belts are readily available in the Mitsubishi workshop manuals. Technicians at Mitsubishi dealerships that replace seat belts have access to the installation instruction information in the workshop manual. Installers other than Mitsubishi dealership technicians also have seat belt installation information available in the workshop manuals and are available on the Mitsubishi Service Web site. As a result, the seat belt parts can be successfully installed with the information already available even though installation instructions were not accompanied in the replacement seat belt assemblies.

(4) Instructions for proper use and maintenance are described in the owner's manual which is installed in each vehicle. Therefore, incorrect usage and maintenance by the vehicle owner is highly unlikely.

Mitsubishi is also not aware of any customer or field reports of replacement seat belt assemblies being incorrectly installed in the subject applications as a result of the absence of the installation instructions in the service part. Mitsubishi also is not aware of any reports requesting the installation instruction, which is believed to be indicative of the availability of this information from the other sources mentioned above.

Finally, Mitsubishi has taken action to ensure that all replacement seat belt assemblies are packaged with the required installation instructions and has corrected all the replacement seat belt assemblies in the inventory for shipment to dealers.

In view of the above, Mitsubishi believes that the described noncompliance with FMVSS No. 209 is inconsequential and does not present a risk to motor vehicle safety. Thus, Mitsubishi requests that its petition, to exempt it from providing recall notification of noncompliance as required by 49 U.S.C. 30118 and remedying the recall noncompliance as required by 49 U.S.C. 30120, should be granted.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 am to 5 pm except Federal Holidays.

c. Electronically: By logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000 (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: February 7, 2011.

Authority: (49 U.S.C. 30118, 30120: delegations of authority at CFR 1.50 and 501.8).

Issued on: January 3, 2011.
Claude H. Harris
Acting Associate Administrator for Enforcement.

[FR Doc. 2011-79 Filed 1-6-11; 8:45 am]

BILLING CODE 4910-59-P